DEPARTMENT OF ENERGY

[FE Docket No. 14-179-LNG]

Pieridae Energy (USA), Ltd.; Pieridae Energy (US) Ltd. Statement Regarding Change in Control

AGENCY: Office of Fossil Energy, DOE.

ACTION: Notice of change in control.

SUMMARY: The Office of Fossil Energy (FE) of the Department of Energy (DOE) gives notice of receipt of a notice and statement regarding change in control, filed December 18, 2015 (Statement),¹ by Pieridae Energy (US) Ltd. (Pieridae US). The Statement is intended to inform DOE/FE about a change in control of the upstream ownership of Pieridae US and to amend its application for authority to export liquefied natural gas in this proceeding. The Statement was filed under section 3 of the Natural Gas Act (NGA), 15 U.S.C. 717b.

¹ Pieridae Energy (US) Ltd., Notice and Statement of Change in Control and Amendment to Application, FE Docket No. 14-179-LNG (Dec. 18, 2016).

DATES: Protests, motions to intervene or notices of intervention, as applicable, and written comments are to be filed using procedures detailed in the Public Comment Procedures section of this Notice no later than 4:30 p.m., Eastern time, July 13, 2016.

ADDRESSES:

Electronic Filing by email: fergas@hq.doe.gov.

Regular Mail: U.S. Department of Energy (FE-34), Office of Regulation and International Engagement, Office of Fossil Energy, P.O. Box 44375, Washington, DC 20026-4375.

Hand Delivery or Private Delivery Services (e.g., FedEx, UPS, etc.): U.S. Department of Energy (FE-34), Office of Regulation and International Engagement, Office of Fossil Energy, Forrestal Building, Room 3E-042, 1000 Independence Avenue SW., Washington, DC 20585.

FOR FURTHER INFORMATION CONTACT:

Larine Moore or Benjamin Nussdorf, U.S. Department of Energy (FE-34), Office of Regulation and International Engagement, Office of Fossil Energy, Forrestal Building, Room 3E-042, 1000 Independence Avenue SW., Washington, DC 20585, (202) 586-9478; (202) 586-7893.

Edward Myers, U.S. Department of Energy (GC-76), Office of the Assistant General Counsel for Electricity and Fossil Energy, Forrestal Building, 1000 Independence Avenue SW., Washington, DC 20585, (202) 586-3397.

SUPPLEMENTARY INFORMATION:

Summary of Change in Control

As noted above, the Statement is intended to inform DOE/FE about a change in control of the upstream ownership of Pieirdae US and to amend its pending LNG export application. According to the Statement, Pieridae US has been and remains wholly-owned by Pieridae Energy Limited (Pieridae) and CEX Atlantic Holdings Ltd. (CEX Atlantic) owns 1,669,411 shares of Pieridae, representing approximately 10.77% of all of the shares of Pieridae then issued and outstanding. Pieridae US further states that CEX Atlantic is controlled, directly or indirectly, by Kicking Horse Energy Inc. According to the Statement, on December 1, 2015, ORLEN Upstream Canada Ltd. (Orlen Upstream) acquired all of the issued and outstanding shares of Kicking Horse Energy Inc., thereby acquiring indirect ownership of the 1,669,411 shares of Pieridae held by CEX Atlantic. Pieridae US states that ORLEN Upstream Canada is a Canadian corporation, which is wholly-owned by PKN ORLEN S.A. a corporation whose shares are listed on the Warsaw Stock Exchange.² Additional details can be found in the Statement, posted on the DOE/FE Web site at http://energy.gov/sites/prod/files/2015/12/f27/CIC%20and%20Amend.pdf.

² Pieridae US is advised that its described change in control may also require the approval of the Committee on Foreign Investment in the United States (CFIUS). DOE expresses no opinion regarding the need for review by CFIUS. Further information may be obtained at: http://www.treasury.gov/resource-center/international/Pages/Committee-on-Foreign-Investment-in-US.aspx.

DOE/FE Evaluation

DOE/FE will review the Statement in accordance with its Procedures for Changes in Control Affecting Applications and Authorizations to Import or Export Natural Gas (CIC Revised Procedures).³ Consistent with the CIC Revised Procedures, this Notice addresses only the Pieridae proceeding in which final authorizations have been issued to export LNG to non-FTA countries. The affected proceeding is DOE/FE Docket No. 14-179-LNG. If no interested person protests the change in control and DOE takes no action on its own motion, the change in control will be deemed granted 30 days after publication in the Federal Register. If one or more protests are submitted, DOE will review any motions to intervene, protests, and answers, and will issue a determination as to whether the proposed change in control has been demonstrated to render the underlying authorization inconsistent with the public interest.

³ 79 FR 65541 (Nov. 5, 2014).

Public Comment Procedures

Interested persons will be provided 15 days from the date of publication of this Notice in the Federal Register in order to move to intervene, protest, and answer the Statement. Protests, motions to intervene, notices of intervention, and written comments are invited in response to this Notice only as to the proposed change in control described in the Statement.⁴ All protests, comments, motions to intervene, or notices of intervention must meet the requirements specified by DOE's regulations in 10 CFR part 590.

⁴ Intervention, if granted, would constitute intervention only in the change in control portion of these proceedings, as described herein.

Filings may be submitted using one of the following methods: (1) Preferred method: emailing the filing to fergas@hq.doe.gov, with the individual FE Docket Number(s) in the title line, or Pieridae Change in Control in the title line to include all applicable dockets in this Notice; (2) mailing an original and three paper copies of the filing to the Office of Regulation and International Engagement at the address listed in ADDRESSES; or (3) hand delivering an original and three paper copies of the filing to the Office of Regulation and International Engagement at the address listed in ADDRESSES. All filings must include a reference to the individual FE Docket Number(s) in the title line, or Pieridae Change in Control in the title line to include all applicable dockets in this Notice. PLEASE NOTE: If submitting a filing via email, please include all related documents and attachments (e.g., exhibits) in the original email correspondence. Please do not include any active hyperlinks or password protection in any of the documents or attachments related to the filing. All electronic filings submitted to DOE must follow these guidelines to ensure that all documents are filed in a timely manner. Any hardcopy filing submitted greater in length than 50 pages must also include, at the time of the filing, a digital copy on disk of the entire submission.

The Statement and any filed protests, motions to intervene or notice of interventions, and comments are available for inspection and copying in the Office of Regulation and International Engagement docket room, Room 3E-042, 1000 Independence Avenue SW., Washington, DC 20585. The docket room is open between the hours of 8:00 a.m. and 4:30 p.m., Monday through Friday, except Federal holidays. These documents are also available electronically by going to the following DOE/FE Web address: http://www.fe.doe.gov/programs/gasregulation/index.html.

Issued in Washington, DC, on June 21, 2016.
John A. Anderson,
Director, Office of Regulation and International Engagement, Office of Oil and Natural Gas.

[FR Doc. 2016-15319 Filed 6-27-16; 8:45 am]

BILLING CODE 6450-01-P